DEPARTMENT OF COMMERCE

Bureau of the Census

National Advisory Committee

AGENCY: Bureau of the Census, Department of Commerce.

ACTION: Notice of public virtual meeting.

SUMMARY: The Bureau of the Census (Census Bureau) is giving notice of a virtual meeting of the National Advisory Committee (NAC). The Committee will address updates on the 2020 Census Tribal Consultations. The NAC will meet virtually on Wednesday, January 13, 2016. Last minute changes to the schedule are possible, which could prevent giving advance public notice of schedule adjustments. Please visit the Census Advisory Committees Web site for the most current meeting agenda at: http://www.census.gov/cac/.

DATES: January 13, 2016. The virtual meeting will begin at approximately 2:00 p.m. ET and end at approximately 4:00 p.m. ET.

ADDRESSES: The meeting will be held via teleconference. To attend, participants should call the following phone number to access the audio portion of the meeting: 1-888-455-8222. When prompted, please use the following password: 2984842. The meeting will be available via webex at: https://census.webex.com/census/j.php?MTID=m7fc00033eb8f476d52c0eae31ab63fa4.

FOR FURTHER INFORMATION CONTACT: Tara Dunlop, Advisory Committee Branch Chief, Customer Liaison and Marketing Services Office, tara.t.dunlop@census.gov, Department of Commerce, U.S. Census Bureau, Room 8H177, 4600 Silver Hill Road, Washington, DC 20233, telephone 301-763-5222. For TTY callers, please use the Federal Relay Service 1-800-877-8339.

SUPPLEMENTARY INFORMATION: The NAC was established in March 2012 and operates in accordance with the Federal Advisory Committee Act (Title 5, United States Code, Appendix 2, Section 10). NAC members are appointed by the Director, U.S. Census Bureau, and consider topics such as hard to reach populations, race and ethnicity, language, aging populations, American Indian and Alaska Native tribal considerations, new immigrant populations, populations affected by natural disasters, highly mobile and migrant populations, complex households, rural populations, and population segments with limited access to technology. The Committee also advises on data privacy and confidentiality, among other issues.

All meetings are open to the public. A brief period will be set aside at the meeting for public comment on January 13. However, individuals with extensive questions or statements must submit them in writing to: census.national.advisory.committee@census.gov (subject line “January 13 2016 NAC Virtual Meeting Public Comment”), or by letter submission to the Committee Liaison Officer, Department of Commerce, U.S. Census Bureau, Room 8H179, 4600 Silver Hill Road, Washington, DC 20233.

Dated: December 17, 2015.
John H. Thompson,
Director, Bureau of the Census.

[FR Doc. 2015-32262 Filed 12-22-15; 8:45 am]

BILLING CODE 3510-07-P